THE NATIONAL FOUNDATION FOR THE ARTS AND THE HUMANITIES

Institute of Museum and Library Services

Notice of Proposed Information Collection Requests: Maker/STEM Education Support for 21st Century Community Learning Centers Program Evaluation

AGENCY: Institute of Museum and Library Services, National Foundation for the Arts and the Humanities

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed. By this notice, IMLS is soliciting comments concerning a proposed survey to collect information to monitor the use, expectations of and satisfaction with the quality of Maker/STEM program implementation at 21st Century Community Learning Centers (21st CCLC) and associated outcomes.

A copy of the proposed information collection request can be obtained by contacting the individual listed below in the ADDRESSES section of this notice.

DATES: Written comments must be submitted to the office listed in the addressee section below on or before April 10, 2017.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Christopher J. Reich, Chief Administrator, Office of Museum Services, Institute of Museum and Library Services, 955 L'Enfant Plaza North SW., Suite 4000, Washington, DC 20024-2135. Mr. Reich can be reached by Telephone: 202-653-4685, Fax: 202-653-4608, or by email at creich@imls.gov, or by teletype (TTY/TDD) for persons with hearing difficulty at 202-653-4614.

FOR FURTHER INFORMATION CONTACT: Christopher J. Reich, Senior Advisor, Institute of Museum and Library Services, 955 L'Enfant Plaza SW., Suite 4000, Washington, DC 20024. Mr. Reich can be reached by Telephone: 202-653-4685, Fax: 202-653-4608, or by email at creich@imls.gov, or by teletype (TTY/TDD) for persons with hearing difficulty at 202/653-4614. Office hours are from 8:30 a.m. to 5 p.m., E.T., Monday through Friday, except Federal holidays.

SUPPLEMENTARY INFORMATION:

I. Background

The Institute of Museum and Library Services is the primary source of federal support for the Nation's 123,000 libraries and 35,000 museums. The Institute's mission is to inspire libraries and museums to advance innovation, learning and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

II. Current Actions

The purpose of this collection is to assess the quality of Maker/STEM program implementation at 21st Century Community Learning Centers (21ST CCLC) and the associated outcomes for participating youth, 21st CCLC site staff, and museum/science center staff. The Maker/STEM Education Support for 21st CCLC project is designed to support Maker and Science, Technology, Engineering, and Math (STEM) education learning by providing professional development, activities, tools, and training to 21st CCLCs in 30-40 sites across seven States or regions.

The evaluation is intended to provide insight for future changes, programmatic improvements, and learning at all levels of the program. Methods will include qualitative and quantitative data collection via a mixed methods approach. Data will be collected through activities such as online and/or paper and pencil surveys, phone interviews, and in-person interviews.

Agency: Institute of Museum and Library Services.

Title: Maker/STEM Education Support for 21st Century Community Learning Centers Program Evaluation.

OMB Number: To be determined.

Frequency: One-time collection anticipated.

Affected Public: The target population is museum/science center staff, 21st CCLC staff, and youth participants involved in the STEM/Making programs at targeted 21st CCLC sites.

Number of Respondents: To be determined.

Estimated Average Burden per Response: To be determined.

Estimated Total Annual Burden: To be determined.

Total Annualized capital/startup costs: n/a.

Total Annual costs: To be determined.

Public Comments Invited: Comments submitted in response to this notice will be summarized and/or included in the request for OMB's clearance of this information collection.

Dated: February 8, 2017.
Kim Miller,
Grants Management Specialist, Office of Chief Information Officer.

[FR Doc. 2017-02862 Filed 2-10-17; 8:45 am]

BILLING CODE 7036-01-P